NUCLEAR REGULATORY COMMISSION

[Docket Nos. 50-315 and 50-316]

Indiana Michigan Power Company and Donald C. Cook, Units 1 and 2; Environmental Assessment and Finding of No Significant Impact

The U.S. Nuclear Regulatory Commission (NRC) is considering issuance of amendments to Facility Operating License No. DPR-58 and No. DPR-74, issued to the Indiana Michigan Power Company (the licensee), for operation of the Donald C. Cook Nuclear Plant (D. C. Cook), Units 1 and 2, located in Berrien County, Michigan.

Environmental Assessment

Identification of the Proposed Action

The proposed action would delete Technical Specification (TS) 5.4.2, “Reactor Coolant System Volume,” regarding the reactor coolant system (RCS) volume information. This information is not required to be in the TS for compliance with 10 CFR 50.36(c)(4). Information concerning the RCS volume is included in the D. C. Cook Updated Final Safety Analysis Report and any changes to the information are controlled in accordance with 10 CFR 50.59. In addition, format changes are proposed to TS page 5-5 for both Unit 1 and Unit 2.

The proposed action is in accordance with the licensee's application for amendment dated December 22, 1999.

The Need for the Proposed Action

The proposed action is necessary to correct the plant Technical Specifications. This information is not required to be in the TS for compliance with 10 CFR 50.36(c)(4) and is redundant to information contained in the D. C. Cook Updated Final Safety Analysis Report.

Environmental Impacts of the Proposed Action

The NRC has completed its evaluation of the proposed action and concludes that the removal of the RCS volume from the TSs and the associated format changes to the TS pages do not impact any other requirements.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the D. C. Cook Nuclear Plant.

Agencies and Persons Consulted

In accordance with its stated policy, on February 18, 2000, the staff consulted with the Michigan State official, Mr. David Minnaar of the Michigan Department of Environmental Quality, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 22, 1999, which is available for public inspection at the Commission's Public Document Room, The Gelman Building, 2120 L Street, NW, Washington, DC. Publicly available records will be accessible electronically from the ADAMS Public Library component on the NRC Web site, http://www.nrc.gov (the Electronic Reading Room).

Dated at Rockville, Maryland, this 23d day of February 2000.
For the Nuclear Regulatory Commission.
John F. Stang,
Senior Project Manager, Section 1, Project Directorate III, Division of Licensing Project Management, Office of Nuclear Reactor Regulation.

[FR Doc. 00-4885 Filed 2-29-00; 8:45 am]

BILLING CODE 7590-01-P